DEPARTMENT OF TRANSPORTATION

Federal Aviation Administration

Notice of Passenger Facility Charge (PFC) Approvals and Disapprovals

AGENCY: Federal Aviation Administration (FAA), DOT.

ACTION: Monthly notice of PFC Approvals and Disapprovals. In March 2000, there were 11 applications approved. Additionally, 20 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Santa Barbara, California.

Application Number: 00-02-C-00-SBA.

Application Type: Impose and use a PFC.

PFC Level: $3.00.

Total PFC Revenue Approved in This Decision: $5,512,330.

Earliest Charge Effective Date: January 1, 2002.

Estimated Charge Expiration Date: May 1, 2007.

Class of Air Carriers not Required to Collect PFC's: Unscheduled Part 135 air taxi operators.

Determination: Approved. Based on information contained in the public agency's application, the FAA has determined that the approved class accounts for less than 1 percent of the total annual enplanements at Santa Barbara Municipal Airport.

Brief Description of Projects Approved for Collection and Use:

Rehabilitation of taxiways A, F, and G.

Master plan update.

Install airline terminal ramp lighting.

Procure aircraft rescue and firefighting (ARFF) vehicle.

Upgrade airfield electrical system.

Design for upgrade and expansion of airline terminal access road.

Design for upgrade and expansion of airline terminal building.

Brief Description of Projects Withdrawn: Rehabilitate runway 7/25.

Determination: This project was withdrawn by the public agency by letter dated December 15, 1999. Therefore, the FAA did not rule on this project in this decision.

Upgrade and expand airline terminal ramp.

Determination: This project was withdrawn by the public agency by letter dated December 15, 1999. Therefore, the FAA did not rule on this project in this decision.

Decision Date: March 1, 2000.

FOR FURTHER INFORMATION CONTACT: Kevin Flynn, Western Pacific Region Airports Division, (310) 725-3632.

Public Agency: Gainesville-Alachua County Regional Airport Authority, Gainesville, Florida.

Application Number: 00-01-C-00-GNV.

Application Type: Impose and use a PFC.

PFC Level: $3.00.

Total PFC Revenue Approved in This Decision: $679,084.

Earliest Charge Effective Date: July 1, 2000.

Estimated Charge Expiration Date: February 1, 2002.

Class of Air Carriers not Required to Collect PFC's: None.

Brief Description of Projects Approved for Collection and Use:

Airport layout plan update.

PFC administrative fees.

Airfield safety project—runway 24 protection zone.

Taxiway A extension.

Construct T-hanger taxiway.

Security upgrades.

Access road reconstruction.

Runway vacuum sweeper.

ARFF equipment.

Security equipment.

Airfield guidance signs.

Terminal expansion and renovation—phase 1a.

Terminal expansion and renovation—phase 1b.

Passenger lift device.

Brief Description of Projects Approved in Part for Collection and Use: Construction of service road.

Determination: Partially approved. The approved amount was reduced from the requested amount because the requested amount was inadvertently recorded incorrectly in the PFC application.

Runway and taxiway rehabilitation.

Determination: Partially approved. The public agency did not provide information on justification for the drainage and compass calibration pad components of this project. Therefore, those components are not PFC eligible. The approved amount was reduced from the amount requested to account for those components determined ineligible.

Land acquisition.

Determination: Partially approved. The approved amount was reduced from the requested amount because the requested amount was inadvertently recorded incorrectly in the PFC application.

Brief Description of Project Disapproved: Terminal hold room expansion.

Determination: Disapproved. The FAA has determined that due to the declining number of enplanements at Gainesville Regional Airport (GNV) over the past 10 years, an absence of adequate information to signal a reversal of the current enplanement trend, and an absence of adequate information to show that the existing terminal area space does not sufficiently accommodate current demand, expansion of the terminal hold room is not justified. Therefore, this project does not meet the requirements of § 158.15, and is disapproved. In making this determination, the FAA examined the project using the guidelines contained in paragraph 69b of FAA Advisory Circular 150/5360-13, Design Guidelines for Airport Terminal Facilities.

Decision Date: March 2, 2000.

FOR FURTHER INFORMATION CONTACT: Richard Owen, Orlando Airports District Office, (401) 812-6331, ext. 19.

Public Agency: Charter County of Wayne, Detroit, Michigan.

Application Number: 00-04-C-00-DTW.

Application Type: Impose and use a PFC.

PFC Level: $3.00.

Total PFC Revenue Approved in This Decision: $203,207,000.

Earliest Charge Effective Date: October 1, 2029.

Estimated Charge Expiration Date: October 1, 2031.

Class of Air Carriers not Required To Collect PFC's:

All air carriers or foreign air carriers which enplane fewer than 500 passengers per year at Detroit Metropolitan Wayne County Airport (DTW).

Determination: Approved. Based on information contained in the public agency's application, the FAA has determined that the approved class accounts for less than 1 percent of the total annual enplanements at DTW.

Brief Description of Projects Approved for Collection and Use:

Runway 21C/3C keel section replacement.

Runway 4/22 design and construction.

Rebuild outfall structures at ponds 3 and 4.

Runway 21C remote primary deicing.

Grade/pave taxiway K islands.

Decision Date: March 10, 2000.

FOR FURTHER INFORMATION CONTACT: Robert L. Conrad, Detroit Airports District Office, (734) 487-7295.

Public Agency: Yakima Air Terminal Board, Yakima, Washington

Application Number: 00-05-C-00-YKM.

Application Type: Impose and use a PFC.

PFC Level: $3.00.

Total PFC Revenue Approved in This Decision: $480,000.

Earliest Charge Effective Date: June 1, 2000.

Estimated Charge Expiration Date: August 1, 2002.

Class of Air Carriers not Required To Collect PFC's: Air taxi/commercial operators filing FAA Form 1800-31.

Determination: Approved. Based on information contained in the public agency's application, the FAA has determined that the approved class accounts for less than 1 percent of the total annual enplanements at Yakima Air Terminal-McAllister Field.

Brief Description of Projects Approved for Collection and Use:

Update airport layout plan.

Install visual navigation aids.

Purchase radio equipment.

Taxiway B rehabilitation.

Brief Description Of Project Approved for Collection Only: Construct west perimeter access/ARFF road.

Decision Date: March 13, 2000.

FOR FURTHER INFORMATION CONTACT: Suzanne Lee-Pang, Seattle Airports District Office, (425) 227-2654.

Public Agency: Port of Oakland, Oakland, California.

Application Number: 00-09-C-00-OAK.

Application Type: Impose and use a PFC.

PFC Level: $3.00.

Total PFC Revenue Approved in This Decision: $38,409,000.

Earliest Charge Effective Date: July 1, 2000.

Estimated Charge Expiration Date: February 1, 2003.

Class of Air Carriers not Required To Collect PFC's: (1) Air taxi/commercial operators exclusively filing FAA Form 1800-31; (2) commuters or small certificated air carriers filing DOT Form 298-C T1 or E1.

Determination: Approved. Based on information contained in the public agency's application, the FAA has determined that each approved class accounts for less than 1 percent of the total annual enplanements at Metropolitan Oakland International Airport.

Brief Description of Projects Approved for Collection and Use:

Electronic key security system.

Telecommunication infrastructure program.

Improve sewer system for terminal 1.

Taxiway T reconstruction.

Airfield lighting improvement program.

Airfield master plan.

Runway 11/29 conduit and lighting project.

Purchase new ARFF vehicle.

Emergency Operations Center in ARFF building.

Taxiway C pavement improvements.

Overlay runway 9L/27R.

Install taxiway edge lights on taxiways K, L, M, N, P, and Q.

Install lighting on ramp.

Brief Description of Projects Approved for Collection Only:

Water pollution control facility.

Ground run-up enclosure.

Brief Description of Project Disapproved: Airport radio system.

Determination: Disapproved. The FAA has determined that this radio system is not needed to meet airport safety or security requirements in accordance with paragraph 560 of FAA Order 5100.38A, Airport Improvement Program Handbook (October 24, 1989). Rather, this radio system appears to be intended to meet airport operational needs. Therefore, this project does not meet the requirements of § 158.15(b)(1).

Decision Date: March 17, 2000.

FOR FURTHER INFORMATION CONTACT: Marlys Vandervelde, San Francisco Airports District Office, (650) 876-2806.

Public Agency: State of Connecticut, Department of Transportation, Bureau of Aviation and Ports, Windsor Locks, Connecticut.

Application Number: 00-10-C-00-BDL.

Application Type: Impose and use a PFC.

PFC Level: $3.00.

Total PFC Revenue Approved in This Decision: $4,358,000.

Charge Effective Date: July 1, 2000.

Estimated Charge Expiration Date: January 1, 2001.

Class of Air Carriers Not Required To Collect PFC's: On-demand air taxi commercial operators.

Determination: Approved. Based on information contained in the public agency's application, the FAA has determined that the approved class accounts for less than 1 percent of the total annual enplanements at Bradley International Airport.

Brief Description of Projects Approved for Collection and Use:

Acquire snow removal equipment.

Upgrade surface monitoring system.

Brief Description of Project Approved for Collection Only: Construction and installation of instrument landing system (CAT II/III) for runway 24.

Decision Date: March 17, 2000.

FOR FURTHER INFORMATION CONTACT: Priscilla Scott, New England Region Airports Division, (781) 238-7614.

Public Agency: Municipal Airport Authority, Fargo, North Dakota.

Application Number: 00-04-U-00-FAR.

Application Type: Use PFC revenue.

PFC Level: $3.00.

Total PFC Revenue Approved in This Decision: $850,000.

Charge Effective Date: January 1, 1997.

Estimated Charge Expiration Date: September 1, 2002.

Class of Air Carriers Not Required To Collect PFC's: No change from previous decision.

Brief Description of Projects Approved for Collection and Use: Install box culvert in County drain 10.

Decision Date: March 20, 2000.

FOR FURTHER INFORMATION CONTACT: Irene R. Porter, Bismarck Airports District Office, (701) 250-4385.

Public Agency: Susquehanna Area Regional Airport Authority, Middletown, Pennsylvania.

Application Number: 00-03-C-00-MDT.

Application Type: Impose and use a PFC.

PFC Level: $3.00.

Total PFC Revenue Approved in This Decision: $3,715,249.

Earliest Charge Effective Date: July 1, 2000.

Estimated Charge Expiration Date: May 1, 2002.

Class of Air Carriers Not Required To Collect PFC's: Nonscheduled/on-demand air carriers.

Determination: Approved. Based on information contained in the public agency's application, the FAA has determined that the approved class accounts for less than 1 percent of the total annual enplanements at Harrisburg International Airport.

Brief Description of Projects Approved for Collection and Use:

Two loading bridge replacements.

PFC application development.

Brief Description of Project Approved for Collection Only:

Relocate terminal loop road.

Enplaned/deplaned drive expansion.

Decision Date: March 20, 2000.

FOR FURTHER INFORMATION CONTACT: Roxane Wren, Harrisburg Airports District Office, (717) 730-2830.

Public Agency: Sacramento County Department of Airports, Sacramento, California.

Application Number: 00-06-C-00-SMF.

Application Type: Impose and use a PFC.

PFC Level: $3.00.

Total PFC Revenue Approved In This Decision: $115,700,000.

Earliest Charge Effective Date: August 1, 2006.

Estimated Charge Expiration Date: November 1, 2013.

Class of Air Carriers Not Required to Collect PFC's: None.

Brief Description of Project Approved for Collection and Use: Terminal A construction including ticketing, baggage claim, 12 aircraft gates, and associated building infrastructure.

Decision Date: March 27, 2000.

FOR FURTHER INFORMATION CONTACT: Marlys Vandervelde, San Francisco Airports District Office, (650) 876-2806.

Public Agency: Columbus Airport Commission, Columbus, Georgia.

Application Number: 00-03-C-00-CSG.

Application Type: Impose and use a PFC.

PFC Level: $3.00.

Total PFC Revenue Approved in This Decision: $1,251,387.

Earliest Charge Effective Date: August 1, 2000.

Estimated Charge Expiration Date: November 1, 2004.

Class of Air Carriers Not Required to Collect PFC's: Air carriers enplaning less than 1 percent of total enplaned passengers at Columbus Metropolitan Airport (CSG).

Determination: Disapproved. Based on information contained in the public agency's supplement to the application, the FAA has determined that the public agency did not specifically designate a class of carriers that account for less than 1 percent of CSG's total annual enplanements.

Brief Description of Projects Approved for Collection and Use:

North terminal area access road rehabilitation.

Obstruction approach clearing.

Passenger lift device.

Taxiway D rehabilitation.

Runway 5-23 rehabilitation.

Runway renumbering and signage.

ARFF vehicle.

Taxiway A and terminal apron rehabilitation.

Master plan update.

Taxiway C relocation.

Decision Date: March 28, 2000.

FOR FURTHER INFORMATION CONTACT: Daniel Gaetan, Atlanta Airports District Office, (404) 305-7146.

Public Agency: Rapid City Regional Airport, Rapid City, South Dakota.

Application Number: 00-02-C-00-RAP.

Application Type: Impose and use a PFC.

PFC Level: $3.00.

Total PFC Revenue Approved in This Decision: $1,791,732.

Earliest Charge Effective Date: June 1, 2000.

Estimated Charge Expiration Date: September 1, 2003.

Class of Air Carriers not Required to Collect PFC's: Air taxi/commercial operators filing FAA Form 1800-31.

Determination: Approved. Based on the information contained in the public agency's application, the FAA has determined that the approved class accounts for less than 1 percent of the total annual enplanements at Rapid City Regional Airport.

Brief Description of Projects Approved for Collection and Use:

Friction measuring device.

Security access control system installation.

Extend runway 14 safety area and relocate road C232.

Correct instrument landing system critical area for runway 32.

ARFF heating, ventilating, and air conditioning improvements.

Airfield regulators.

Snow removal equipment storage facility.

Covered passenger boarding walkway acquisition.

Computerized airfield lighting controls.

Air carrier terminal building emergency power system/uniterruptible power supply.

General aviation taxiways rehabilitation.

General aviation airport entrance road rehabilitation.

Asphalt paving projects—alpha and alpha 3 taxiways.

Airport entrance road rehabilitation.

High intensity runway lighting.

ARFF acquisition.

Passenger loading bridge (jetway) acquisition.

Flight information display system.

Snow blower acquisition.

Snow removal equipment—plow/truck/spreader.

Snow removal equipment—plow/truck/spreader.

Snow removal equipment—loader with ramp bucket/plow.

Runway 14/32 rehabilitation.

Air carrier terminal apron rehabilitation.

Runway 05/23 rehabilitation design.

Decision Date: March 29, 2000.

FOR FURTHER INFORMATION CONTACT: Irene R. Porter, Bismarck Airports District Office, (701) 250-4385.

Amendments To PFC approvals
Amendment No. City, State | Amendment approved date | Original approved net PFC revenue | Amended approved net PFC revenue | Original estimated charge exp. date | Amended estimated charge exp. date
93-03-I-05-SPI, Springfield, IL | 02/29/00 | $3,941,493 | $3,938,493 | 05/01/07 | 05/01/07
97-08-C-01-SPI, Springfield, IL | 02/29/00 | NA | NA | 05/01/07 | 05/01/07
94-01-C-02-APF, Naples, FL | 03/02/00 | 735,000 | 713,000 | 11/01/99 | 10/01/99
92-01-C-01-EYW, Key West, FL | 03/08/00 | 945,937 | 941,709 | 02/01/95 | 10/01/94
92-01-C-02-MTH, Marathon, FL | 03/08/00 | 398,836 | 390,001 | 06/01/98 | 05/01/98
97-02-C-01-FAT, Fresno, CA | 03/10/00 | 58,303,992 | 54,531,000 | 07/01/28 | 07/01/30
92-01-C-01-IDA, Idaho Falls, ID | 03/13/00 | 1,500,000 | 1,473,899 | 02/01/98 | 02/01/98
94-01-C-01-PIA, Peoria, IL | 03/13/00 | 4,083,195 | 2,885,171 | 09/01/09 | 02/01/08
92-01-I-06-PHL, Philadelphia, PA | 03/13/00 | 104,050,000 | 102,673,924 | 07/01/11 | 07/01/11
93-02-U-01-PHL, Philadelphia, PA | 03/13/00 | NA | NA | 07/01/11 | 07/01/11
95-04-U-02-PHL, Philadelphia, PA | 03/13/00 | NA | NA | 07/01/11 | 07/01/11
98-06-C-03-PHL, Philadelphia, PA | 03/13/00 | 29,650,000 | 28,560,410 | 07/01/11 | 07/01/11
92-01-I-03-ESC, Escanaba, MI | 03/15/00 | 149,319 | 150,721 | 10/01/00 | 10/01/00
95-02-U-01-ESC, Escanaba, MI | 03/15/00 | NA | NA | 10/01/00 | 10/01/00
95-01-C-01-BFD, Lewis Run, PA | 03/17/00 | 572,259 | 285,366 | 06/01/08 | 05/01/03
96-02-C-02-AOO, Altoona, PA | 03/20/00 | 271,674 | 251,674 | 12/01/99 | 12/01/99
93-01-C-03-TPA, Tampa, FL | 03/22/00 | 97,132,614 | 133,682,614 | 04/01/01 | 07/01/02
94-02-U-02-TPA, Tampa, FL | 03/22/00 | NA | NA | 04/01/01 | 07/01/02
95-01-C-02-HTS, Huntington, WV | 03/23/00 | 99,932 | 368,432 | 04/01/00 | 10/01/01
94-01-C-01-CID, Cedar Rapids, IA | 03/29/00 | 6,330,000 | 6,874,479 | 07/01/00 | 12/01/00

Dated: Issued in Washington, DC on April 17, 2000.
Eric Gabler,
Manager, Passenger Facility Charge Branch.

[FR Doc. 00-10546 Filed 4-27-00; 8:45 am]

BILLING CODE 4910-13-M